DEPARTMENT OF ENERGY
Federal Energy Regulatory Commission
Notice of FERC Staff Attendance at Meeting of Board of Directors of Southwest Power Pool
January 22, 2004.
The Federal Energy Regulatory Commission hereby gives notice that members of its staff will attend the January 27, 2004, meeting of the Board of Directors of the Southwest Power Pool (SPP). The staff's attendance is part of the Commission's ongoing outreach efforts.
The discussions may address matters at issue in the following proceedings:
Docket No. RM01-12-000, Remedying Undue Discrimination Through Open Access Transmission Service and Standard Electricity Market Design; and
Docket Nos. RT04-1-000 and ER04-48-000, Southwest Power Pool, Inc.
The meeting will take place on January 27, 2004, and is expected to begin at approximately 10 a.m. The meeting will take place at the Marriott New Orleans, 555 Canal Street, New Orleans, LA 70130. The meeting is open to the public.

For more information, contact Tony Ingram, Office of Markets, Tariffs and Rates, Federal Energy Regulatory Commission at (202) 502-8938 or tony.ingram@ferc.gov.

Magalie R. Salas,
Secretary.

[FR Doc. E4-148 Filed 1-29-04; 8:45 am]
BILLING CODE 6717-01-P